ENVIRONMENTAL PROTECTION AGENCY

[FRL-9931-59-Region 9]

Public Water System Supervision Program Revision for the State of Hawaii

AGENCY: Environmental Protection Agency (EPA).

ACTION: Notice of tentative approval.

SUMMARY: Notice is hereby given that the State of Hawaii revised its approved Public Water System Supervision Program (PWSSP) under the federal Safe Drinking Water Act (SDWA) pertaining to administrative penalty authority. The Environmental Protection Agency (EPA) has determined that these revisions by the State are no less stringent than the corresponding Federal regulations and otherwise meet applicable SDWA primacy requirements. Therefore, EPA intends to approve these revisions to Hawaii's PWSSP.

DATES: Written comments and/or request for a public hearing must be received on or before August 31, 2015.

ADDRESSES: All documents relating to this determination are available for inspection between the hours of 8:30 a.m. and 4:30 p.m., Monday through Friday, at the following offices: Hawaii Department of Health, Safe Drinking Water Branch, Environmental Management Division, 919 Ala Moana Blvd., Room 308, Honolulu, Hawaii 96814; and United States Environmental Protection Agency, Region 9, Drinking Water Management Section, 75 Hawthorne Street (WTR-3-1), San Francisco, California 94105.

FOR FURTHER INFORMATION CONTACT: Anna Yen, EPA Region 9, Drinking Water Management Section, at the address given above; telephone number: (415)972-3976; email address: yen.anna@epa.gov.

SUPPLEMENTARY INFORMATION: Background. EPA approved the State's original application for PWSSP primary enforcement authority which, following the public notice period, became effective on October 20, 1977 (42 FR 47244, no request for public hearing received). EPA subsequently approved and finalized revisions to Hawaii's PWSSP on the following dates: May 6, 1993 (58 FR 17892); July 19, 1993 (58 FR 33442); September 29, 1993 (58 FR 45491); March 13, 1995 (60 FR 7962); and May 23, 1996 (61 FR 17892).

Public Process. Any interested party may submit written comments on this determination and/or request a public hearing. All comments will be considered and, if necessary, EPA will issue a response. A request for a public hearing and/or comments must be submitted by August 31, 2015, to the Regional Administrator at the EPA Region 9 address shown above. The Regional Administrator may deny frivolous or insubstantial requests for a hearing. If a substantial request for a public hearing is made by August 31, 2015, EPA Region 9 will hold a public hearing. Any request for a public hearing shall include the following information: 1. The name, address, and telephone number of the individual, organization, or other entity requesting a hearing; 2. A brief statement of the requesting person's interest in the Regional Administrator's determination and a brief statement of the information that the requesting person intends to submit at such hearing; and 3. The signature of the individual making the request, or, if the request is made on behalf of an organization or other entity, the signature of a responsible official of the organization or other entity.

If EPA Region 9 does not receive a timely and appropriate request for a hearing and the Regional Administrator does not elect to hold a hearing on his own motion, and if no comments are received which cause EPA to modify its tentative approval, this determination shall become final and effective on August 31, 2015, and no further public notice will be issued.

Authority: Section 1413 of the Safe Drinking Water Act, as amended, 42 U.S.C. 3006-2 (1996), and 40 CFR part 142 of the National Primary Drinking Water Regulations.

Dated: July 20, 2015.
Alexis Strauss,
Acting Regional Administrator, EPA, Region 9.

[FR Doc. 2015-18833 Filed 7-30-15; 8:45 am]

BILLING CODE 6560-50-P